DEPARTMENT OF HEALTH AND HUMAN SERVICES

National Institutes of Health

Proposed Collection; Comment Request; Program Review of the Division of Acquired Immunodeficiency Syndrome Policy Implementation Program

AGENCY: National Institutes of Health (NIH).

ACTION: Notice.

SUMMARY: In compliance with the requirement of Section 3506(c)(2)(A) of the Paperwork Reduction Act of 1995, for opportunity for public comment on proposed data collection projects, the National Institute of Allergy and Infectious Diseases (NIAID), the National Institutes of Health (NIH) will publish periodic summaries of proposed projects to be submitted to the Office of Management and Budget OMB for review and approval.

Proposed Collection: Title: Review of the DAIDS. Policy Implementation Program (DPIP) .

Type of Information Collection Request: New. Need and Use of Information Collection: The program review of the Division of AIDS (DAIDS) Implementation Program DPIP), is to be conducted over a three-year period, and it will provide feedback to aid in the understanding of the target population's knowledge, attitudes, and perceptions of the DAIDS Policy Implementation Program (DPIP). The target population is classified as Extramural Researchers (ERs), who are recipients of funding from DAIDS to conduct and review research. This target population is comprised of Site Leaders of Clinical Research Sites (CRSs) and Research Networks and Clinical Site Monitors of the CTUs and CRSs. The researchers are located globally, and may be part of more than one DAIDS funded research study and/or network. The DPIP is built upon four goals of awareness and accessibility, understandability, applicability, and harmonization of the policies and procedures. The review is to determine DPIP's progression to fulfillment of its program goals. The results of the review will provide DAIDS' Policy, Training, and Quality Assurance Branch (PTQAB) with information to guide optimal deployment of clinical research policies and procedures intended to harmonize, standardize and improve DAIDS funded/sponsored research. The program review will help derive an understanding of whether the DPIP program is implemented and functioning as intended to meet its program goals. The Estimated number of respondent is 392. Frequency of Response: Web-based survey; annually (once a year). Focus Group; one time. Affected Public: Extramural Researchers Type of Respondents: Adult professionals. There are no Capital Costs to report. There are no Operating or Maintenance Costs to report.

The annual reporting burden is provided below:

Type of respondents | Data collection instrument | Estimated frequency of response | Estimated average time per response | Estimated annual hour burden
Extramural Researchers | Survey | 3 | 1 | 392
Extramural Researchers | Focus Groups | 1 | 2 | 261

FOR FURTHER INFORMATION CONTACT: To request more information on the proposed project or to obtain a copy of the data collection plans and instruments, contact: Ms. Dione Washington, Policy, Training, and Quality Assurance Branch, National Institute of Allergy and Infectious Diseases, NIH, 6700B Rockledge Drive, MSC 7620, Bethesda, MD 20892-7620 United States of America; or E-mail your request, including your address to: washingtondi@niaid.nih.gov.

Comments Due Date: Written comments and recommendations for the proposed data collection must be mailed within 60 days of this notice.

Dated: July 9, 2009.
Judith Brooks,
Chief, Policy, Training, and Quality Assurance Branch, NIAID, National Institutes of Health.

[FR Doc. E9-16832 Filed 7-15-09; 8:45 am]

BILLING CODE 4140-01-P